DEPARTMENT OF HEALTH AND HUMAN SERVICES

Centers for Disease Control and Prevention

[60Day-04-15]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E-11, Atlanta, GA 30333. Written comments should be received within 60 days of this notice.

Proposed Project: Surveillance for Ciguatera Fish Poisoning in Recreational Fishers Utilizing Texas Gulf Coast Oil Rigs—New—National Center for Environmental Health (NCEH), Centers for Disease Control and Prevention (CDC).

This public health surveillance activity will quantify the scope of ciguatera poisonings in the recreational fishing community of coastal Texas. The Texas Department of Health has received reports of ciguatera-toxic fish caught on Texas offshore oil rigs, but anecdotal reports to researchers at the University of Texas suggest that the incidence of ciguatera fish poisoning is greater than what has been reported to the Texas Department of Health. We propose to conduct surveillance activities to identify the prevalence of ciguatera fish poisoning in Texas Gulf Coast oil rigs. This study will provide critical data in guiding efforts to characterize the scope of ciguatera poisonings, to identify risk factors, and to prevent an emerging illness associated with reef ecosystems.

A questionnaire will be administered over a one-year period to recreational spear-fishers and to hook-and-line anglers who have consumed fish caught on the reef ecosystems off the Texas gulf coast. There is no cost to respondents.

Respondent | Number of respondents | Number of responses/ respondent | Average burden per response (in hours) | Total burden (in hours)
Texas Saltwater Fishers | 500 | 1 | 20/60 | 167
Total |  |  |  | 167

Dated: December 4, 2003.
Alvin Hall,
Director, Management Analysis and Services Office, Centers for Disease Control and Prevention.

[FR Doc. 03-30679 Filed 12-10-03; 8:45 am]

BILLING CODE 4163-18-P